DEPARTMENT OF THE INTERIOR

Bureau of Land Management

[WO-250-1220-PC-24 1A]

OMB Approval Number 1004-0165; Information Collection Submitted to the Office of Management and Budget for Review Under the Paperwork Reduction Act

The Bureau of Land Management (BLM) has submitted the proposed collection of information listed below to the Office of Management and Budget (OMB) for approval under the provisions of the Paperwork Reduction Act (44 U.S.C. 3501 et seq.) On March 30, 2000 BLM published a notice in the Federal Register (65 FR 16953) requesting comment on this proposed collection. The comment period ended on May 29, 2000. BLM received no comments from the public in response to that notice. Copies of the proposed collection of information and related forms and explanatory material may be obtained by contacting the BLM clearance officer at the telephone number listed below.

OMB is required to respond to this request within 60 days but may respond after 30 days. For maximum consideration your comments and suggestions on the requirement should be made within 30 days directly to the Office of Management and Budget, Interior Department Desk Officer (1004-0165), Office of Information and Regulatory Affairs, Washington, DC 20503. Please provide a copy of your comments to the Bureau Clearance Officer (WO-630), 1849 C St., NW., Mail Stop 401 LS, Washington, DC 20240.

Nature of Comments: We specifically request your comments on the following:

1. Whether the collection of information is necessary for the proper functioning of the Bureau of Land Management, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical, or other forms of information technology.

Title: Cave Management: Cave Nominations and Confidential Information (43 CFR Part 37).

OMB Approval Number: 1004-0165.

Abstract: The Department of the Interior, through BLM, proposes to renew the approval of an information collection for an existing rule at 43 CFR part 37. That rule requires that Federal agencies must consult with “cavers” and other interested parties to develop a listing of significant caves. The regulations also integrate cave management into existing planning and management processes and provide for the protection of cave resource information in order to prevent vandalism and disturbance of significant caves.

Agency Form Number: None. There is an unnumbered format which entities may use to nominate caves.

Frequency: Once, when nominating the cave or requesting confidential cave information.

Description of Respondents: Respondents “cavers” and other interested parties. Estimated completion time: 3 hour(s) for each nomination and ½-hour for each request for confidential cave information.

Annual Responses: 50 cave nominations and 10 requests for confidential cave information.

Annual Burden Hours: 155.

Bureau Clearance Officer: Shirlean Beshir, (202) 452-5033.

Dated: June 19, 2000.
Shirlean Beshir,
Acting BLM Information Clearance Officer.

[FR Doc. 00-17091 Filed 7-5-00; 8:45 am]

BILLING CODE 4310-84-M